DEPARTMENT OF AGRICULTURE

Agricultural Marketing Service

[Docket No. TB-00-21]

Burley Tobacco Advisory Committee; Meeting

In accordance with the Federal Advisory Committee Act (5 U.S.C. App.) announcement is made of the following committee meeting:

Name: Burley Tobacco Advisory Committee.

Date: September 14, 2000.

Time: 9 a.m.

Place: Campbell House Inn, North Colonial Hall, 1375 Harrodsburg Road, Lexington, Kentucky 40504.

Purpose: To elect officers, establish submarketing areas, discuss selling schedules, and review the operational policies and procedures for the 2000-2001 burley tobacco marketing season. The meeting is open to the public. Persons, other than members, who wish to address the Committee at the meeting should contact John P. Duncan III, Deputy Administrator, Tobacco Programs, AMS, U.S. Department of Agriculture, Room 502 Annex Building, P.O. Box 96456, Washington, DC 20090-6456, (202) 205-0567, prior to the meeting. Written statements may be submitted to the Committee before, at, or after the meeting. If you need any accommodations to participate in the meeting, please contact the Tobacco Programs at (202) 205-0567 by September 5, 2000, and inform us of your needs.

Dated: August 22, 2000.
William O. Coats,
Associate Deputy Administrator, Tobacco Programs.

[FR Doc. 00-21900 Filed 8-25-00; 8:45 am]

BILLING CODE 3410-02-P